DEPARTMENT OF COMMERCE

National Institute of Standards and Technology

[Docket No: 080626784-81166-02]

Technology Innovation Program Extension of Due Date for Proposals

AGENCY: National Institute of Standards and Technology (NIST), United States Department of Commerce.

ACTION: Notice.

SUMMARY: Due to technical difficulties, NIST is extending the deadline for proposal submission for its Technology Innovation Program competition to 3 p.m. Eastern Time, Monday, September 15, 2008. NIST will accept only paper submissions during the extended time period.

DATES: Paper submissions must be received no later than 3 p.m. Eastern Time, Monday, September 15, 2008. Review, selection, and grant award processing is expected to be completed by early December 2008.

ADDRESSES: Paper submissions must be sent to the National Institute of Standards and Technology, 100 Bureau Drive, Stop 4701, Gaithersburg, MD 20899-4701.

FOR FURTHER INFORMATION CONTACT: Barbara Lambis via e-mail at barbara.lambis@nist.gov or telephone (301) 975-4447.

SUPPLEMENTARY INFORMATION: On July 15, 2008, the National Institute of Standards and Technology's (NIST) Technology Innovation Program (TIP) announced that it was soliciting high-risk, high reward research and development proposals for financial assistance (73 FR 40507). The due date for submission of all proposals was 3 p.m. Eastern Time, Thursday, September 4, 2008. Due to technical difficulties some proposers were unable to submit their proposals electronically on Thursday, September 4, 2008. In order to provide all interested parties the opportunity to submit a proposal for TIP, NIST is extending the solicitation period until 3 p.m. Eastern Time, Monday, September 15, 2008. Electronic proposals received between 3 p.m. and 11:59 p.m. Eastern Time on Thursday, September 4, 2008 will be deemed timely and given full consideration. Paper proposals received between 3 p.m. Eastern Time on Thursday, September 4, 2008 and September 11, 2008 will be deemed timely and given full consideration. During the extended solicitation period, NIST will accept only paper submissions. Proposers who attempted to submit electronic proposals but were unsuccessful are encouraged to resubmit their proposals by paper. Paper submissions must be received by 3 p.m. Eastern Time, Monday, September 15, 2008. Please note that for paper submissions the Program requires one original and fifteen (15) copies of the proposal.

The proposal submission deadline applies to any mode of paper proposal delivery, including hand-delivery, courier, and express mailing, but not facsimile. Proposals submitted via facsimile will not be accepted. NIST will not make any allowances for late submissions. All TIP competition requirements and information announced in the July 15, 2008, Federal Register notice apply to proposals submitted during the extended time period with the exception of the review, selection, and award processing time that is now expected to be completed by early December 2008.

Executive Order 12372 (Intergovernmental Review of Federal Programs). Proposals under this program are not subject to Executive Order 12372.

Executive Order 13132 (Federalism). This notice does not contain policies with Federalism implications as defined in Executive Order 13132.

Executive Order 12866 (Regulatory Planning and Review). This notice is not a significant regulatory action under Sections 3(f)(3) and 3(f)(4) of Executive Order 12866, as it does not materially alter the budgetary impact of a grant program and does not raise novel policy issues. This notice is not an “economically significant” regulatory action under Section 3(f)(1) of the Executive Order, as it does not have an effect on the economy of $100 million or more in any one year, and it does not have a material adverse effect on the economy, a sector of the economy, productivity, competition, jobs, the environment, public health or safety, or State, local, or tribal governments or communities.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. 601 et seq. ) are inapplicable. Therefore, a regulatory flexibility analysis is not required and has not been prepared.

Dated: September 9, 2008.
James M. Turner,
Deputy Director.

[FR Doc. E8-21328 Filed 9-9-08; 4:15 pm]

BILLING CODE 3510-13-P